DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held September 9, 2009 starting at 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a NextGen Mid-Term Implementation Task Force meeting. The agenda will include:

• Opening Plenary (Welcome and Introductions).

• Review/Approve Summary of July 1, 2009 PMC meeting, RTCA Paper No. 163-09/PMC-738.

• Publication Consideration/Approval.

• Final Draft, New Document, Safety, Performance and Interoperability Requirements Document for Enhanced Air Traffic Services in Radar-Controlled Areas using ADS-B Surveillance (ADS-B-RAD), RTCA Paper No. 170-09/PMC-743, prepared by SC-186.

• Integration and Coordination Committee (ICC)—Report.

• Action Item Review.

• SC-218—Future ADS-B/TCAS Relationships—Discussion—Status.

• SC-203—Unmanned Aircraft Systems (UAS)—Discussion—Status.

• Discussion.

• SC-214—Standards for Air Traffic Data Communications Services—Discussion—DO-258A, Interoperability Requirements for ATS Applications Using ARINC 622 Data Communications.

• Special Committee Chairman's Reports.

• Other Business.

• Closing Plenary (Other Business, Document Production, Date and Place of Next Meeting, Adjourn).

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on August 13, 2009.
Francisco Estrada C.,
RTCA Advisory Committee.

[FR Doc. E9-20125 Filed 8-20-09; 8:45 am]

BILLING CODE 4910-13-P